INTERNATIONAL TRADE COMMISSION

[Investigation No. 332-560]

Generalized System of Preferences: Possible Modifications, 2016 Review

AGENCY: United States International Trade Commission.

ACTION: Notice of institution of investigation and scheduling of public hearing.

SUMMARY: Following receipt of a request on January 5, 2017, from the United States Trade Representative (USTR), the U.S. International Trade Commission (Commission) instituted investigation No. 332-560, Generalized System of Preferences: Possible Modifications, 2016 Review, for the purpose of providing advice and information relating to the possible designation of additional articles, removal of articles, and waiver of competitive need limitations.

DATES:

February 3, 2017: Deadline for filing requests to appear at the public hearing.

February 8, 2017: Deadline for filing pre-hearing briefs and statements.

February 21, 2017: Public hearing.

February 27, 2017: Deadline for filing post-hearing briefs and statements.

March 3, 2017: Deadline for filing all other written submissions.

May 5, 2017: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov.

FOR FURTHER INFORMATION CONTACT: Information specific to this investigation may be obtained from Renee Berry, Project Leader, Office of Industries (202-205-3498 or renee.berry@usitc.gov) or Sabina Neumann, Deputy Project Leader, Office of Industries (202-205-3000 or sabina.neumann@usitc.gov), or Marin Weaver, Technical Advisor, Office of Industries (202-205-3461 or marin.weaver@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: In his letter, the USTR requested the advice and information described below.

(1) Advice concerning the probable economic effect of elimination of U.S. import duties on certain articles from all beneficiary developing countries under the GSP program. In accordance with sections 503(a)(1)(A), 503(e), and 131(a) of the Trade Act of 1974, as amended (“the 1974 Act”) (19 U.S.C. 2463(a)(1)(A), 2463(e), and 2151(a)), and pursuant to the authority of the President delegated to the USTR by sections 4(c) and 8(c) and (d) of Executive Order 11846 of March 31, 1975, as amended, and pursuant to section 332(g) of the Tariff Act of 1930 (19 U.S.C. 1332(g)), the USTR notified the Commission that the articles identified in Table A of the Annex to the USTR request letter are being considered for designation as eligible articles for purposes of the GSP program. The USTR requested that the Commission provide its advice as to the probable economic effect on total U.S. imports, U.S. industries producing like or directly competitive articles, and on U.S. consumers of the elimination of U.S. import duties on the articles identified in Table A of the Annex to the USTR request letter for all beneficiary developing countries under the GSP program (see Table A below).

Table A—Possible Additions to the List of Products Eligible for the GSP Eligible Products
HTS subheading | Brief description | Countries
1104.19.90 | Rolled or flaked grains of cereals, other than of barley or oats | Beneficiary Developing Countries.
2008.20.00 | Pineapples, otherwise prepared or preserved, nesoi | Beneficiary Developing Countries.
2915.90.18 | Saturated acyclic monocarboxylic acids, nesoi | Beneficiary Developing Countries.
3809.93.50 | Finishing agents, dye carriers and other preparations used in leather and like industries, <5% by weight aromatic (mod.) substance(s) | Beneficiary Developing Countries.
3912.20.00 | Cellulose nitrates (including collodions), in primary forms | Beneficiary Developing Countries.

(2) Advice concerning the probable economic effect of removal of certain articles from specified countries from eligibility for duty-free treatment. The USTR notified the Commission that one article is being considered for removal from eligibility for duty free treatment under the GSP program from all countries. Under authority delegated by the President, pursuant to section 332(g) of the Tariff Act of 1930, with respect to the article listed in Table B of the Annex to the USTR request letter, the USTR requested that the Commission provide its advice as to the probable economic effect of the removal from eligibility for duty-free treatment under the GSP program for this article from all countries on total U.S. imports, U.S. industries producing like or directly competitive articles, and on U.S. consumers (see Table B below).

Table B—Possible Removal From Duty-Free Status From All Countries for a Product on the List of Eligible Articles for the GSP
HTS subheading | Brief description | Country
2922.49.40.20 | Glycine—part of 2922.49.40, “Amino acids“ | All.

(3) Advice concerning waiver of certain competitive need limitations. Under authority delegated by the President, pursuant to section 332(g) of the Tariff Act of 1930, and in accordance with section 503(d)(1)(A) of the 1974 Act, the USTR requested that the Commission provide advice on whether any industry in the United States is likely to be adversely affected by a waiver of the competitive need limitations specified in section 503(c)(2)(A) of the 1974 Act for the countries and articles specified in Table C of the attached Annex to the request letter (see Table C below). Further, in accordance with section 503(c)(2)(E) of the 1974 Act, the USTR requested that the Commission provide its advice with respect to whether like or directly competitive products were being produced in the United States on January 1, 1995. The USTR also requested that the Commission provide its advice as to the probable economic effect on total U.S. imports, as well as on consumers, of the requested waivers. With respect to the competitive need limit in section 503(c)(2)(A)(i)(I) of the 1974 Act, the USTR requested that the Commission use the dollar value limit of $175,000,000.

Table C—Possible Waivers of the CNL From a Specific Country
HTS subheading | Brief description | Country
0410.00.00 | Edible products of animal origin, nesoi | Indonesia.
0714.90.10 | Fresh or chilled dasheens, whether or not sliced or in the form of pellets | Ecuador.
4011.20.10 | New pneumatic radial tires, of rubber, of a kind used on buses or trucks | Indonesia.
4409.10.05 | Coniferous wood continuously shaped along any of its ends, whether or not also continuously shaped along any {of} its edges or faces | Brazil.
6802.99.00 | Monumental or building stone & arts. thereof, nesoi, further worked than simply cut/sawn, nesoi | Brazil.
8525.80.30 | Television cameras, nesoi | Thailand.
9001.50.00 | Spectacle lenses of materials other than glass, unmounted | Thailand.

Time for reporting, HTS detail, portions of report to be classified. As requested by the USTR, the Commission will provide the requested advice and information by May 5, 2017. The USTR asked that the Commission issue, as soon as possible thereafter, a public version of the report containing only the unclassified information, with any confidential business information deleted. As requested, the Commission will provide its economic effect advice and statistics (profile of the U.S. industry and market and U.S. import and export data) and any other relevant information or advice separately and individually for each U.S. Harmonized Tariff Schedule subheading for all products subject to the request. The USTR indicated that those sections of the Commission's report and working papers that contain the Commission's advice and assessment will be classified as “confidential.” The USTR also stated that his office considers the Commission's report to be an inter-agency memorandum that will contain pre-decisional advice and be subject to the deliberative process privilege.

Public Hearing: A public hearing in connection with this investigation will be held at the U.S. International Trade Commission Building, 500 E Street SW., Washington, DC, beginning at 9:30 a.m. on February 21, 2017. Requests to appear at the public hearing should be filed with the Secretary no later than 5:15 p.m., February 3, 2017. All pre-hearing briefs and statements should be filed no later than 5:15 p.m., February 8, 2017; and all post-hearing briefs and statements should be filed no later than 5:15 p.m., February 27, 2017. All requests to appear, and pre- and post-hearing briefs and statements should be filed in accordance with the requirements of the “written submissions” section below.

Written Submissions: In lieu of or in addition to appearing at the hearing, interested parties are invited to file written submissions concerning this investigation. All written submissions should be addressed to the Secretary, and should be received not later than 5:15 p.m., March 3, 2017. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

Confidential Business Information: Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR. Additionally, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel (a) for cybersecurity purposes or (b) in monitoring user activity on U.S. government classified networks. The Commission will not otherwise disclose any confidential business information in a manner that would reveal the operations of the firm supplying the information.

Summaries of Written Submissions: The Commission intends to publish summaries of the positions of interested persons. Persons wishing to have a summary of their position included in the report should include a summary with their written submission. The summary may not exceed 500 words, should be in MSWord format or a format that can be easily converted to MSWord, and should not include any confidential business information. The summary will be published as provided if it meets these requirements and is germane to the subject matter of the investigation. The Commission will identify the name of the organization furnishing the summary and will include a link to the Commission's Electronic Document Information System (EDIS) where the full written submission can be found.

By order of the Commission.
Issued: January 17, 2017.
Lisa R. Barton,
Secretary to the Commission.

[FR Doc. 2017-01401 Filed 1-19-17; 8:45 am]

BILLING CODE 7020-02-P